DEPARTMENT OF ENERGY

10 CFR Part 429 and 431

[EERE-2020-BT-TP-0011]

RIN 1904-AE62

Energy Conservation Program: Test Procedure for Electric Motors; Extension of Comment Period

AGENCY: Office of Energy Efficiency and Renewable Energy, Department of Energy.

ACTION: Notice of proposed rulemaking; extension of public comment period.

SUMMARY: On December 17, 2021, the U.S. Department of Energy (“DOE”) published a notice of proposed rulemaking (“NOPR”) on potential amendments to its test procedure for electric motors. The NOPR provided an opportunity for submitting written comments, data, and information on the proposal by February 15, 2022. DOE received requests from the National Electrical Manufacturers Association (“NEMA”) and the Hydraulic Institute (“HI”) on January 25, 2022, and January 26, 2022, respectively, asking DOE to extend the public comment period for 30 additional days. DOE has reviewed these requests and is granting an extension of the public comment period to allow public comments to be submitted until February 28, 2022.

DATES: The comment period for the NOPR published on December 17, 2021 (86 FR 71710), is extended. DOE will accept comments, data, and information regarding this request for information (RFI) received no later than February 28, 2022.

ADDRESSES: Interested persons are encouraged to submit comments using the Federal eRulemaking Portal at www.regulations.gov. Follow the instructions for submitting comments. Alternatively, interested persons may submit comments, identified by docket number EERE-2020-BT-TP-0011, by any of the following methods:

(1) Federal eRulemaking Portal: www.regulations.gov. Follow the instructions for submitting comments.

(2) Email: ElecMotors2020TP0011@ee.doe.gov. Include the docket number EERE-2020-BT-TP-0011 or regulatory information number (“RIN”) 1904-AE62 in the subject line of the message.

No telefacsimiles (“faxes”) will be accepted.

Although DOE has routinely accepted public comment submissions through a variety of mechanisms, including postal mail and hand delivery/courier, the Department has found it necessary to make temporary modifications to the comment submission process in light of the ongoing COVID-19 pandemic. DOE is currently suspending receipt of public comments via postal mail and hand delivery/courier. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

Docket: The docket, which includes Federal Register notices, public meeting attendee lists and transcripts (if a public meeting is held), comments, and other supporting documents/materials, is available for review at www.regulations.gov. All documents in the docket are listed in the www.regulations.gov index. However, some documents listed in the index, such as those containing information that is exempt from public disclosure, may not be publicly available.

The docket web page can be found at www.regulations.gov/docket?D=EERE-2020-BT-TP-0011. The docket web page contains instructions on how to access all documents, including public comments, in the docket.

FOR FURTHER INFORMATION CONTACT:

Mr. Jeremy Dommu, U.S. Department of Energy, Office of Energy Efficiency and Renewable Energy, Building Technologies Office, EE-5B, 1000 Independence Avenue SW, Washington, DC 20585-0121. Telephone: (202) 586-9870. Email: ApplianceStandardsQuestions@ee.doe.gov.

Mr. Michael Kido, U.S. Department of Energy, Office of the General Counsel, GC-33, 1000 Independence Avenue SW, Washington, DC 20585-0121. Telephone: (202) 586-8145. Email: Michael.Kido@hq.doe.gov.

For further information on how to submit a comment or review other public comments and the docket contact the Appliance and Equipment Standards Program staff at (202) 287-1445 or by email: ApplianceStandardsQuestions@ee.doe.gov.

SUPPLEMENTARY INFORMATION: On December 17, 2021, DOE published a NOPR proposing to amend the existing scope of the DOE test procedures for electric motors consistent with related industry changes for nomenclature and test procedure developments (i.e., for air-over electric motors, submersible electric motors, electric motors greater than 500 horsepower, electric motors considered small, inverter-only electric motors, and synchronous electric motors); add test procedures, metric, and supporting definitions for additional electric motors covered under the proposed scope; and update references to industry standards to reference current versions. (86 FR 71710) Furthermore, DOE proposed to adopt industry provisions related to the prescribed test conditions to further ensure the comparability of testing. In addition, DOE proposed to update certain testing instructions to reduce manufacturer burden. Further, DOE proposed to amend the provisions pertaining to certification testing and determination of represented values for electric motors other than dedicated-purpose pool pump motors, apply these provisions to the additional electric motors proposed for inclusion in the scope of the test procedure, and to move both provisions consistent with the location of other certification requirements for other covered products and equipment. Finally, DOE proposed to add provisions pertaining to certification testing and determination of represented values for dedicated-purpose pool pump motors. DOE is seeking comment from interested parties on these proposals.

Interested parties in the matter, NEMA (on January 25, 2022) and the Hydraulic Institute (on January 26, 2022) requested an extension of the public comment period for 30 additional days (NEMA, No. 9 at p. 1; HI, No. 11 at p.1).¹ NEMA commented that the extension is necessary due to delays in developing their responses given the proposed scope of products along with the extent of information to be gathered. HI commented more time is needed for the pump industry to review and provide comment relating to the testing of submersible motors.

¹ The parenthetical reference provides a reference for information located in DOE's rulemaking docket. (Docket No. EERE-2020-BT-TP-0011, which is maintained at www.regulations.gov/#!docketDetail;D=EERE-2020-BT-TP-0011). The references are arranged as follows: (Commenter name, comment docket ID number, page of that document).

DOE has reviewed the requests and is extending the comment period to allow additional time for interested parties to submit comments. The proposed rule was published in the Federal Register on December 17, 2021, and a 60-day comment period was provided from the date of publication. In light of the submitted requests, DOE believes that additional time is warranted, and that extending the comment period until the end of the month of February is sufficient. Therefore, DOE is extending the comment period until February 28, 2022.

Signing Authority

This document of the Department of Energy was signed on January 28, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 31, 2022.
Treena V. Garrett,
Federal Register Liaison Officer, U.S. Department of Energy.

[FR Doc. 2022-02281 Filed 2-3-22; 8:45 am]

BILLING CODE 6450-01-P